ENVIRONMENTAL PROTECTION AGENCY

[ER-FRL-9021-3]

Environmental Impact Statements; Notice of Availability

AGENCY: Office of Federal Activities, General Information (202) 564-7146 or http://www.epa.gov/compliance/nepa/.

Weekly receipt of Environmental Impact Statements (EISs)

Filed 05/25/2015 Through 05/29/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150156, Final, NPS, FL, Biscayne National Park Final General Management Plan, Review Period Ends: 07/06/2015, Contact: Brian Carlstrom 786-335-3646.

EIS No. 20150157, Draft, NMFS, FL, Red Snapper Allocation Amendment 28 to the Fishery Management Plan for the Reef Fish Resources of the Gulf of Mexico, Comment Period Ends: 07/20/2015, Contact: Roy E. Crabtree 727-824-5301.

EIS No. 20150158, Final, USAF, FL, Gulf Regional Airspace Strategic Initiative Landscape Initiative, Review Period Ends: 07/06/2015, Contact: Michael Spaits 850-882-2836.

EIS No. 20150159, Draft, USFS, AZ, Camp Tatiyee Land Exchange, Comment Period Ends: 07/20/2015, Contact: Randall Chavez 928-368-2106.

Amended Notices

EIS No. 20150054, Draft, NRC, FL, Turkey Point Nuclear Plant Units 6 and 7 Combined Licenses (COLs), Comment Period Ends: 07/17/2015, Contact: Alicia Williamson-Dickerson 301-415-1878 Revision to FR Notice Published 03/06/2015; Reopen and Extending Comment Period from 05/22/2015 to 07/17/2015.

EIS No. 20150132, Draft Supplement, FTA, MN, Southwest Light Rail Transit (Metro Green Line Extension) Comment Period Ends: 07/21/2015, Contact: Maya Sarna 202-366-5811 Revision to FR Notice Published 05/22/2015; Extending Comment Period from 07/06/2015 to 07/21/2015.

Dated: June 2, 2015.
Dawn Roberts,
Management Analyst, NEPA Compliance Division, Office of Federal Activities.

[FR Doc. 2015-13787 Filed 6-4-15; 8:45 am]

BILLING CODE 6560-50-P